DEPARTMENT OF TRANSPORTATION

Federal Highway Administration

Notice of Final Federal Agency Actions on Proposed Highways in Utah

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to various proposed highway projects in the State of Utah. Those actions grant licenses, permits, and approvals for the projects.

DATES: By this notice, the FHWA is advising the public of final agency actions subject to 23 U.S.C. 139(l)(1). A claim seeking judicial review of the Federal agency actions on any of the listed highway projects will be barred unless the claim is filed on or before March 19, 2008. If the Federal law that authorizes judicial review of a claim provides a time period of less than 180 days for filing such claim, then that shorter time period still applies.

FOR FURTHER INFORMATION CONTACT: For FHWA: Mr. Edward T. Woolford, Environmental Program Manager, Federal Highway Administration, 2520 West 4700 South, Suite 9A, Salt Lake City, Utah 84118, Telephone (801) 963-0182. For UDOT: Ms. Rebecka Stromness, Environmental Program Manager, Utah Department of Transportation, 4501 South 2700 West, Salt Lake City, Utah 84119, Telephone (801) 965-4327. The FHWA Utah Division's normal business hours are 7 a.m. to 4:30 p.m. MST.

SUPPLEMENTARY INFORMATION: Notice is hereby given that the FHWA and other Federal agencies have taken final agency actions by issuing licenses, permits, and approvals for the highway projects in the State of Utah that are listed below. The actions by the Federal agencies on a project, and the laws under which such actions were taken, are described in the documented environmental impact statement (EIS) issued in connection with the project, and in other project records. The final environmental impacts statement (FEIS) and record of decision (ROD) and other project records for the listed projects are available by contacting the FHWA or the Utah Department of Transportation at the addresses provided above. For some of the projects, the FEIS and ROD also can be viewed and downloaded electronically at: http://www.udot.utah.gov, or viewed at public libraries in the relevant project area(s).

This notice applies to all Federal agency decisions on the listed projects as of the issuance date of this notice and all laws under which such actions were taken. The laws under which Federal agency decisions were made on the projects listed in this notice include, but are not limited to: National Environmental Policy Act (NEPA) [42 U.S.C. 4321-4351]; Federal-Aid Highway Act [23 U.S.C. 109]; Section 4(f) of the Department of Transportation Act of 1966 [49 U.S.C. 303]; Clean Water Act, 33 U.S.C. 1251-1377 (Section 404, Section 401, Section 319); Land and Water Conservation Fund (LWCF), 16 U.S.C. 4601-4604; TEA-21 Wetlands Mitigation, 23 U.S.C. 103(b)(6)(m), 133(b)(11); Clean Air Act, 42 U.S.C. 7401-7671(q); Endangered Species Act [16 U.S.C. 1531-1544 and Section 1536]; Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013]; Civil Rights Act of 1964 [42 U.S.C. 2000(d)-2000(d)(1)]; American Indian Religious Freedom Act [42 U.S.C. 1996]; Farmland Protection Policy Act (FPPA) [7 U.S.C. 4201-4209]; Comprehensive Environmental Response, Compensation, and Liability Act (CERCLA), 42 U.S.C. 9601-9675; Superfund Amendments and Reauthorization Act of 1986 (SARA); Resource Conservation and Recovery Act (RCRA), 42 U.S.C. 6901-6992(k); Executive Order (E.O.) 12898, Federal Actions to Address Environmental Justice in Minority Populations and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112 Invasive Species.

The projects subject to this notice are:

1. Iron County Transportation Corridor, SR-56 to Exit 51 on I-15.

Project location: Iron County, SR-56 & I-15. Project reference number: STP-1756(1)0. Project type: The selected alternative consists of two (2) thirteen (13) foot lanes and two (2) eight (8) foot shoulders. The selected alternative begins at the North Kanarraville/Hamilton Fort (Exit 51) interchange and progresses westerly to approximately 5600 West. At 5600 West, the alignment begins a gradual curve northward to 5700 West. The alignment follows 5700 West due north to intersect with SR-56, with a bend to the northwest so that the intersection with SR-56 is at a 90-degree angle. The total length of the selected alternative is 5.6 miles. Final actions taken under: National Environmental Policy Act (NEPA) [42 U.S.C. 4321-4351]; Federal-Aid Highway Act [23 U.S.C. 109]; Section 4(f) of the Department of Transportation Act of 1966 [49 U.S.C. 303]. FHWA NEPA documents: FEIS dated August 25, 2005 & ROD dated April 19, 2006.

2. SR-26 (Riverdale Road), 1900 West to Washington Boulevard.

Project location: SR-26 (Riverdale Road), Cities of Roy, Riverdale, South Ogden and Ogden in Weber County, Utah. Project reference number: SP-0026(4)0. Project type: The selected alternative will provide for new travel lanes between I-15 and Wall Avenue (40th Street) in each direction, Wall Avenue to Chimes westbound direction only, and from 36th Street to Washington Blvd. in both directions; new dedicated turn lanes; modifications to existing traffic signals; reconstruction of I-84 bridge and ramps; and reconstruction of the I-15 Riverdale Road bridge and ramps.

Final actions taken under, but not limited to: National Environmental Policy Act (NEPA) [42 U.S.C. 4321-4351]; Federal-Aid Highway Act [23 U.S.C. 109]; Section 4(f) of the Department of Transportation Act of 1966 [49 U.S.C. 303]. FHWA NEPA documents: FEIS dated January 3, 2007 and ROD dated April 26, 2007.

3. Syracuse Road (1700 South), 1000 West to 2000 West.

Project location: West Syracuse, Davis County, Utah. Project reference number: STP-0108(8)4. Project type: The selected alternative consists of widening Syracuse Road from 1000 West to 2000 West. The selected alternative consists of two (2) travel lanes in each direction with a center turn lane, shoulders which include a bike lane, curb, gutter and sidewalk. Final actions taken under: National Environmental Policy Act (NEPA) [42 U.S.C. 4321-4351]; Federal-Aid Highway Act [23 U.S.C. 109]; Section 4(f) of the Department of Transportation Act of 1966 [49 U.S.C. 303]. FHWA NEPA documents: FEIS dated August 15, 2006 and ROD dated February 22, 2007.

(Catalog of Federal Domestic Assistance Program Number 20.205, Highway Planning and Construction. The regulations implementing Executive Order 12372 regarding intergovernmental consultation on Federal programs and activities apply to this program.)

Authority: 23 U.S.C. 139(l)(1).

Issued on: September 14, 2007.
Walter C. Waidelich, Jr.,
Division Administrator, Salt Lake City, Utah.

[FR Doc. E7-18620 Filed 9-20-07; 8:45 am]

BILLING CODE 4910-RY-P